DEPARTMENT OF HEALTH AND HUMAN SERVICES

Office of Refugee Resettlement

Notice of Grants Awards

AGENCY: Office of Refugee Resettlement, Administration for Children and Families.

ACTION: Notice is hereby given that awards will be made to nine unaccompanied alien children (UAC) care providers in the amount of $9,714,681: Catholic Charities Archdiocese of Miami, FL: $1,460,667; Heartland Alliance, Chicago, IL: $935,645; Southwest Key Phoenix, AZ: $762,970; Southwest Key El Paso, TX: 229,590; Florence Crittenton, Fullerton, CA: $2,215,000; LSS of the South, Corpus Christi, TX: $439,955; Baptist Children and Families, San Antonio, TX: $2,970,854; Lutheran Immigrant and Refugee Services, Baltimore, MD: $350,000; and US Conference of Catholic Bishops, Baltimore, MD: $350,000.

CFDA#: 93.676.

Legislative Authority: Section 462 of the Homeland Security Act of 2002, 6 U.S.C. 279, and Section 235 of the William Wilberforce Trafficking Victims Protection Reauthorization Act of 2008, 8 U.S.C. 1232.

Project Period: 5/1/2009-9/30/2009.

SUMMARY: This funding will support the expansion of shelter/foster care program bed capacity to meet the additional number of unaccompanied alien children (UAC) referrals from the Department of Homeland Security (DHS) and other Federal agencies resulting from the recent passage of the William Wilberforce Trafficking Victims Protection Reauthorization Act (TVPRA) of 2008. Many provisions in the TVPRA will dramatically affect the Office of Refugee Resettlement (ORR) UAC program's capacity to provide placement, custodial and residential shelter care services. ORR expects an additional 6,800 referrals annually from DHS.

The program has very specific requirements for the provision of services. Existing grantees are the only entities with the infrastructure, licensing, experience and appropriate level of trained staff to meet the service requirements and the urgent need for expansion. The program's ability to avoid a backlog of children waiting in border patrol stations for placement can only be accommodated through the expansion of existing programs through this supplemental award process.

FOR FURTHER INFORMATION CONTACT: Kenneth Tota, Office of Refugee Resettlement, Administration for Children and Families, 370 L'Enfant Promenade, SW., Washington, DC 20447, (202) 401-4858.

Dated: April 13, 2009.
David H. Siegel,
Acting Director, Office of Refugee Resettlement.

[FR Doc. E9-9429 Filed 4-23-09; 8:45 am]

BILLING CODE P